DEPARTMENT OF AGRICULTURE

Submission for OMB Review; Comment Request; Reinstatement of a Previously Approved Information Collection

March 24, 2022.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by April 28, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Export Certificate Request Forms.

OMB Control Number: 0581-0283.

Summary of Collection: The dairy grading program is a voluntary fee program authorized under the Agricultural Marketing Act (AMA) of 1946 (U.S.C. 1621-1627). The regulations governing inspection and grading services of manufactured or processed dairy products are contained in 7 CFR part 58. Importing countries require certification methods and sources of raw ingredients for dairy products. USDA, AMS, Dairy Grading Branch is the designated unit for dairy products in the United States. Exporters must request export certificates from USDA.

Need and Use of the Information: Importing countries are requiring certification as to production methods and sources of raw ingredients for dairy products. Information will be gathered using DA-228 “Request for Applicant Number,” DA-253 European Union Health Certificate Request,” and the Sanitary Certificate Request. To provide the required information on dairy export sanitary certificates AMS must collect the information from the exporter. The information required on the sanitary certificates varies from country to country requiring specific forms for each country. Such information includes: Identity of the importer and exporter, to describe consignments specifics, and identify border entry at the country of destination. The information gathered using these forms is only used to create the export sanitary certificate.

Description of Respondents: Business or other for-profit.

Number of Respondents: 275.

Frequency of Responses: Reporting: On occasion.

Total Burden Hours: 10,854.

Agricultural Marketing Service

Title: Establishment of a Dairy Donation Program.

OMB Control Number: 0581-0327.

Summary of Collection: The Consolidated Appropriations Act of 2021 mandated establishment of a Dairy Donation Program to reimburse EDOs for milk used to make eligible dairy products donated to non-profit groups for distribution to recipient individuals and families. Under the program, EDOs account to a Federal milk marketing order (FMMO) by filling a report reflecting the eligible dairy products manufactured. Entities not already filing FMMO report will be required to submit a Report of Receipts and Utilization. All partnerships must submit a Dairy Donation and Distribution Plan and Eligible Distributor Certification Form describing the process the partnership would use to process, transport, store, and distribute eligible product to an eligible distributor. Once approved, the EDO can file a Reimbursement Claim Form to receive reimbursement for the donated eligible dairy products.

Need and Use of the Information: Respondents will be required to submit a Dairy Donation and Distribution Plan (Plan) to become eligible for program participation. The EDO completes the Plan, which requests its entity name, address, and contact information, along with a description of its donation process and types of products to be donated to ensure it meets eligibility requirements. Accompanying the Plan, the EDO submits its W-9, which contains the banking and tax information necessary for AMS to set up direct deposit for reimbursement claims. Submitting this information with the Plan will facilitate quicker reimbursement payments once a Reimbursement Claim Form is submitted because the needed accounts will already be established. Section 1147.102 of the rule details requirements for Plan submissions to AMS for eligible partnerships to participate in the program. Information collected in the Plan is fundamental to ensuring the integrity of the DDP. The Plan only needs to be submitted once.

Description of Respondents: Individuals and Households.

Number of Respondents: 615.

Frequency of Responses: On occassion: Annually.

Total Burden Hours: 2,790.

Agricultural Marketing Service

Title: Seafood Processors Pandemic Response and Safety Block Grant Program (SPRS).

OMB Control Number: 0581-0329.

Summary of Collection: The information collection requirements in this request are needed for the U.S. Department of Agriculture (USDA), Agricultural Marketing Service (AMS) to administer a block grant program, entitled the Seafood Processors Pandemic Response and Safety (SPRS) Block Grants Program, under its Transportation and Marketing Program's Grants Division and in accordance with the Uniform Administrative Requirements, Cost Principles, and Audit Requirements for Federal Awards (Uniform Guidance) (2 CFR part 200).

SPRS is authorized and funded by the Consolidated Appropriations Act, 2021 in response to the ongoing COVID-19 pandemic to respond to coronavirus, including for measures to protect workers in seafood processing facilities and processing vessels. SPRS is a non-competitive block grant program that supports seafood processors and processing vessels (as defined in section 3.2) in improving workplace safety measures, market pivots, retrofitting facilities, transportation, worker housing, and medical costs associated with disruptions from COVID-19. Costs associated with these activities continue to accrue for the seafood processing sector. These funds will help address past and present protective measures to keep the seafood processing sector stable and safe from disruptions from COVID-19.

Need and Use of the Information: The information collected is needed to certify that grant participants are complying with terms and conditions of the agreement, including the requirements outlined in the Uniform Guidance, and the data collected is the minimum information necessary to effectively carry out the program requirements, support program integrity, and ensure eligible applicants can access the program. The information collection requirements in this request are essential to carry out the intent of section 751 of the CAA, to provide the respondents the type of service they request, and for AMS to administer this program.

Description of Respondents: State, Local, and Tribal Government.

Number of Respondents: 25.

Frequency of Responses: On occassion: Annually.

Total Burden Hours: 1,025.

Levi S. Harrell,
Departmental Information Collection Clearance Officer.

[FR Doc. 2022-06565 Filed 3-28-22; 8:45 am]

BILLING CODE 3410-02-P